Title 3—

The President

Presidential Determination No. 2008-28 of September 15, 2008

Major Drug Transit or Major Illicit Drug Producing Countries for Fiscal Year 2009

Memorandum for the Secretary of State

Pursuant to section 706(1) of the Foreign Relations Authorization Act, Fiscal Year 2003 (Public Law 107-228) (FRAA), I hereby identify the following countries as major drug transit or major illicit drug producing countries: Afghanistan, The Bahamas, Bolivia, Brazil, Burma, Colombia, Dominican Republic, Ecuador, Guatemala, Haiti, India, Jamaica, Laos, Mexico, Nigeria, Pakistan, Panama, Paraguay, Peru, and Venezuela.

A country's presence on the Majors List is not necessarily an adverse reflection of its government's counternarcotics efforts or level of cooperation with the United States. Consistent with the statutory definition of a major drug transit or drug producing country set forth in section 481(e)(2) and (5) of the Foreign Assistance Act of 1961, as amended (FAA), one of the reasons that major drug transit or illicit drug producing countries are placed on the list is the combination of geographic, commercial, and economic factors that allow drugs to transit or be produced despite the concerned government's most assiduous enforcement measures.

Pursuant to section 706(2)(A) of the FRAA, I hereby designate Bolivia, Burma, and Venezuela as countries that have failed demonstrably during the previous 12 months to adhere to their obligations under international counternarcotics agreements and take the measures set forth in section 489(a)(1) of the FAA. Attached to this report are justifications for the determinations on Bolivia, Burma, and Venezuela, as required by section 706(2)(B). I have also determined, in accordance with provisions of section 706(3)(A) of the FRAA, that support for programs to aid Venezuela's democratic institutions and continued support for bilateral programs in Bolivia are vital to the national interests of the United States.

Under the leadership of President Karzai, the Government of Afghanistan has made some progress in combating narcotics. However, drug trafficking remains a serious threat to the future of Afghanistan, contributing to widespread public corruption, damaging legitimate economic growth, and fueling violence and insurgency.

A successful counternarcotics strategy in Afghanistan hinges on maintaining security, building public capacity, attaining local support, and actively pursuing our joint counternarcotics strategy.

Poppy cultivation continues to be marked by the divide between the increasingly poppy-free northern provinces and the insurgency-dominated regions in the south. Through political will, and by using a mixture of incentives and disincentives, governors in key northern provinces like Badakshan and Nangarhar have significantly reduced poppy cultivation.

Inspired by the Nangarhar model, the newly appointed governor of the southern province of Helmand has taken bold steps to implement the first truly serious counternarcotics campaign in the province. It is clear that progress in Helmand Province will not come easily. Drug control efforts in this area of pronounced poppy cultivation are thwarted by heavily entrenched Taliban centers of power. In 2007 Helmand Province cultivated more than half of Afghanistan's illegal poppy crop.

Difficult security conditions greatly impede counternarcotics operations, particularly in the south and southwest provinces, areas in which the insurgency and organized crime groups predominate and where over 85 percent of Afghan poppy is cultivated.

Drug-related corruption in Afghanistan—one of the most intransigent problems in the country—must be confronted, particularly at provincial and district government levels. Corruption and illegal drugs in Afghanistan threaten to undermine all aspects of the country's efforts to build a sustainable economic infrastructure and functioning democracy.

The United States enjoys close cooperation with Canada across a broad range of law enforcement issues. Both of our nations face a serious challenge from the 2-way flow of drugs across our long border. While Canada is primarily a drug consuming country, it is also a significant producer of highly potent marijuana and has become the primary source country for MDMA (ecstasy) available in the United States. Additionally, Canada serves as a transit or diversion point for precursor chemicals and over-the-counter pharmaceuticals used to produce illicit synthetic drugs, most notably MDMA. While methamphetamine use has decreased in the United States, due in large part to past efforts to reduce precursor chemical diversion by Canadian authorities, production of finished methamphetamine is increasing in Canada and could lead to greater supplies in the United States. Canada is pursuing a new National Anti-Drug Strategy that focuses on proven approaches to reduce drug use and deter drug trafficking. The United States and Canada continue to work productively in joint law enforcement operations that disrupt drug and currency smuggling operations along the border.

The growing expansion of drug trafficking in Central America poses serious challenges to the region's limited capability to combat both the narcotics trade and organized crime. We are particularly concerned about the increasing presence of drug trafficking organizations in Central America that are fleeing more robust counternarcotics regimes elsewhere, especially in Mexico and Colombia. Often unimpeded, traffickers use long Central American coastlines for illegal maritime drug shipments. Even though there have been noteworthy seizures, a high proportion of drugs transiting Central America are not detected or seized.

The March 2008 gun battle between drug organizations in Guatemala demonstrates that criminal organizations such as the Sinaloa cartel are trying to reinforce their trafficking strongholds in Central America. In 2008, Guatemala passed new anti-organized crime and extradition laws. While such actions are encouraging, Guatemala must work aggressively to implement these measures, just as neighboring countries must redouble their practical efforts to implement adopted reforms aimed at thwarting criminal activity.

The United States is encouraged by the commitment of the Regional Integration System to a regional response, such as sharing counternarcotics intelligence. Support for cohesive regional institution-building and practical law enforcement enhancements in Central America are critical components to a successful regional counternarcotics strategy. We look forward to working with Guatemala and other Central American nations to support counternarcotics programs and the rule of law under the new Merida Initiative.

The Government of Ecuador is committed to protecting its borders and territory against drug trafficking and other transnational crimes. The increased presence of Ecuadorian security forces in its counternarcotics efforts provided a more effective deterrent to drug production and trafficking. The identification of new trafficking trends and increased staffing and inspection at all air, land, and sea ports are also helping to hinder drug trafficking. With a system for tracking vessels already in place, Ecuador is expanding this capability and more effectively utilizing it as a tool for working with partner nations. The country's ability to identify the nationality of ships is of special concern as considerable cocaine destined for the United States has been detected on Ecuadorian-flagged vessels.

The countries of West Africa have emerged as key transit hubs for Andean cocaine trafficked through Venezuela and Brazil and destined for European markets. This trafficking is undermining many of the already fragile institutions of countries in the region. Narcotics traffickers have focused their illegal activities in Guinea-Bissau, but have recently extended their operations south to Guinea. The presence of Latin American drug traffickers and the large quantities of cocaine trafficked openly suggest that drug criminals may exercise the prerogatives of sovereign nation-states in these two countries. West Africa has long been a hub for illicit criminal networks. West African states lack resources to sufficiently counter efforts by drug trafficking organizations whose activity threatens the stability of these countries and the well-being of their people.

International donors and organizations are working to assist governments in their counternarcotic efforts. We support these efforts to preserve and protect stability and positive growth in this region.

Nigeria, a major transit country for illicit drugs destined for the United States, continues to make some progress on counternarcotics and has cooperated effectively with the United States on drug-related money laundering cases. Since it began operations in 2005, the Nigerian Financial Intelligence Unit has investigated numerous suspicious transaction reports that have resulted in high-profile convictions recorded by the Economic and Financial Crimes Commission (EFCC). However, recent developments in Nigeria raise questions about whether the EFCC will remain an effective anticorruption agency. The United States Government has had extradition requests pending in Nigeria for years and is concerned that Nigeria's extradition practices and procedures remain obstacles to the effectiveness of this essential counternarcotics law enforcement tool. We are encouraged that Nigeria's use of U.S.-donated body scanners at its four major international airports has resulted in the arrest of numerous drug traffickers. Moreover, we fully support the National Drug Law Enforcement Agency's recent cooperation in regional search and seizure operations.

The Government of India maintains a strong track record of regulating, monitoring, and curbing its licit opium production and distribution process. India has introduced robust, high-tech methods to control cultivation by licensed opium farmers. In this sense, India must continue to refine its control measures to guard against the continuing problem of diversion of licit opium crops, grown for the production of pharmaceutical products, to illegal markets. The United States continues to be concerned about illicit opium poppy production in certain areas of the country, such as West Bengal and the state of Uttaranchal along the India-China Border, previously thought to be free of such cultivation. Nevertheless, during the past year the country has destroyed substantial areas of illicit poppy cultivation. The Indian Government must also continue to investigate cases of large, illicit poppy production and accordingly bring perpetrators to trial. The United States, along with other foreign governments and international organizations, has a good working relationship with India to interdict the flow of narcotics being smuggled across India's borders.

You are hereby authorized and directed to submit this report under section 706 of the FRAA, transmit it to the Congress, and publish it in the Federal Register.

THE WHITE HOUSE,

Washington, September 15, 2008.

[FR Doc. E8-22590

Filed 9-23-08; 8:45 am]

Billing code 4710-10-P